DEPARTMENT OF AGRICULTURE

Agricultural Marketing Service

[Docket Number FV-05-303]

United States Standards for Grades of Bunched Italian Sprouting Broccoli

AGENCY: Agricultural Marketing Service, USDA.

ACTION: Notice.

SUMMARY: The Agricultural Marketing Service (AMS) is soliciting comments on its proposal to revise the United States Standards for Grades of Bunched Italian Sprouting Broccoli. At a 2003 meeting of the Fruit and Vegetable Industry Advisory Committee, AMS was asked to review all the fresh fruit and vegetable standards for usefulness in serving the industry. The current U.S. grade standards do not have provisions for grading broccoli crowns and florets. The proposed revisions will allow crowns and florets to be certified to a United States grade.

DATES: Comments must be received by May 1, 2006.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240; Fax (202) 720-8871, E-mail FPB.DocketClerk@usda.gov. Comments should make reference to the dates and page number of this issue of the Federal Register and will be made available for public inspection in the above office during regular business hours. The United States Standards for Grades of Bunched Italian Sprouting Broccoli is available either at the above address or by accessing the AMS, Fresh Products Branch Web site at: http://www.ams.usda.gov/standards/stanfrfv.htm.

FOR FURTHER INFORMATION CONTACT: Cheri Emery, at the above address or call (202) 720-2185; E-mail Cheri.Emery@usda.gov.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” The Agricultural Marketing Service (AMS) is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA/AMS/Fruit and Vegetable Programs.

AMS is proposing to revise the United States Standards for Grades of Bunched Italian Sprouting Broccoli using the procedures that appear in part 36, Title 7 of the Code of Federal Regulations (7 CFR part 36). These standards were last revised in 1943.

Background

On April 21, 2005, AMS published a notice in the Federal Register (70 FR 20730) soliciting comments for the possible revision of the United States Standards for Grades of Bunched Italian Sprouting Broccoli. In response to this notice, AMS received three comments on the proposed revision. One from an agricultural trade association, one from a representative of an exporter of broccoli from Mexico, and one from a state agriculture representative. The comments are available by accessing the AMS, Fresh Products Branch Web site at: http://www.ams.usda.gov/fv/fpbdocketlist.htm.

The agricultural trade association supported including broccoli crowns and had an interest in “revisiting the diameter as well as the length under U.S. Fancy and No. 1” (for bunched broccoli). AMS has included crowns and florets in the proposed standard. However, the commenter provided no specific suggestions for diameters and lengths for the U.S. Fancy and U.S. No. 1 grades of broccoli. Further, AMS believes that the current diameters and lengths for U.S. Fancy and U.S. No. 1 reflect current marketing practices. Therefore, AMS has not proposed a change to the existing requirements in these grades.

The representative for the exporter of broccoli from Mexico noted the various styles of broccoli they market. AMS has taken into consideration the lengths and diameters provided for bunched and has included similar lengths and diameters into the standards for crowns and florets.

The state agricultural representative commented that the U.S. Fancy grade should be eliminated. The continued use of the U.S. Fancy grade for broccoli and other commodities, reflects commodity marketing practices. Therefore, AMS does not believe such a change is warranted. The commenter also stated there should be a separate “U.S. No. 1 Bunched,” “U.S. No. 1 Crowns,” and “U.S. No. 1 Florets” grade and inclusion of a similar U.S. No. 2 grade. AMS believes that separate grades would be redundant and are not necessary and will instead have the existing U.S. grades and other sections revised so the standards specifically cover the broccoli styles of bunched, crowns, and florets. The commenter also proposed for crowns a three inch minimum diameter with no maximum size along with a stem length of maximum two inches. The commenter stated the size for florets as three inches maximum diameter and stem length of one inch. AMS disagrees with the commenter's proposed sizes since they are not consistent with those sizes marketed today. It was further suggested the diameter and stem length should have the option of meeting “unless otherwise specified.” However, AMS believes that the commenter's suggestion to add an “unless otherwise specified” option for length of the U.S. Fancy and U.S. No. 1 grades for the styles of “Bunched,” “Crowns,” and “Florets” has merit and this change is proposed.

The state agricultural representative also recommended eliminating the reference to “shoot” and adding language for the defect under the “Damage” definition for overmaturity and discoloration of bud clusters. AMS disagrees and will keep the reference to “shoot” because it is used in the reporting of size for bunched broccoli. AMS also believes that the current definition for “Damage” is sufficient for determining the extent of overmaturity and discoloration of bud clusters.

AMS is proposing to revise the title of the standards to United States Standards for Grades of Italian Sprouting Broccoli. AMS is also proposing to revise the size specification section to allow percentages to be determined “by weight” as well as “by count” when fairly uniform, in order to increase the efficiency of inspections. AMS is proposing to add a definition for fairly uniform since it is referenced in the standard but not defined. Additionally, AMS is proposing to add definitions for the terms florets and crowns and revising the definition for diameter to: “Diameter” means the measurement across the bud cluster. With the inclusion of crowns and florets in the standards, AMS is also proposing to add same type to the requirements for the grades and define same type as: Lots shall consist of broccoli with similar type characteristics, i.e., bunched can not be mixed with florets.

AMS will eliminate the unclassified category. This section is not a grade and only serves to show than no grade has been applied to the lot. This section will be removed from all fresh fruit and vegetable standards. It is no longer considered necessary.

The official grades of broccoli covered by these standards are determined by the procedures set forth in the Regulations Governing Inspection, Certification, and Standards of Fresh Fruits, Vegetables and Other Products (51.1 to 51.61).

This notice provides for a 60-day comment period for interested parties to comment on changes to the standards.

Authority: 7 U.S.C. 1621-1627.

Dated: February 23, 2006.
Lloyd C. Day,
Administrator, Agricultural Marketing Service.

[FR Doc. E6-2769 Filed 2-27-06; 8:45 am]

BILLING CODE 3410-02-P